DEPARTMENT OF ENERGY

Federal Energy Regulatory Commission

[Docket No. CP11-50-000]

PetroLogistics Natural Gas Storage Company, LLC; Notice of Availability of the Environmental Assessment for the Proposed Choctaw Hub Expansion Project

The staff of the Federal Energy Regulatory Commission (FERC or Commission) has prepared an environmental assessment (EA) for the Choctaw Hub Expansion Project (Project) proposed by PetroLogistics Natural Gas Storage, LLC (PetroLogistics) in the above-referenced docket. PetroLogistics requests authorization to build and operate high-deliverability, multi-cycle natural gas storage facilities in order to increase the total working capacity of the Choctaw Hub from 16 billion cubic feet (bcf) to 26.6 bcf. The proposed facilities would be adjacent to PetroLogistics' existing natural gas storage, compression and pipeline facilities within the Choctaw Salt Dome located approximately 4 miles northwest of the City of Plaquemine, Louisiana.

The EA assesses the potential environmental impacts of the construction and operation of the Project in accordance with the requirements of the National Environmental Policy Act of (NEPA). The FERC staff concludes that approval of the Project, with appropriate mitigating measures, would not constitute a major federal action significantly affecting the quality of the human environment.

The U.S. Army Corps of Engineers participated as a cooperating agency in the preparation of the EA. Cooperating agencies have jurisdiction by law or special expertise with respect to resources potentially affected by the proposal and participate in the NEPA analysis.

The Project includes the following:

Within the Choctaw Salt Dome

• A change in service of one existing underground storage cavern to natural gas storage: Cavern 28, currently used for commercial brine service;

• Addition of two compressor units totaling 27,000 horsepower to the existing PetroLogistics Compressor Station;

• One 0.67-mile-long, 30-inch-diameter cavern injection/withdrawal pipeline from the compressor station expansion site to the Cavern 28 wellhead (30-Inch Lateral to Cavern 28); and

• One 0.06-mile-long, 10-inch-diameter cavern injection/withdrawal pipeline extending from the 30-Inch-Lateral to Cavern 28 to the existing certificated Cavern 24 wellhead (10-Inch Lateral to Cavern 24).

Extending South From the Choctaw Salt Dome

• One 13-mile-long, 30-inch-diameter expansion header pipeline (30-Inch Expansion Header) looping PetroLogistics' existing pipelines,¹

¹ A pipeline loop is constructed parallel to an existing pipeline to increase capacity.

• One 0.90-mile-long, 20-inch-diameter pipeline to the proposed Texas Eastern Transmission, LP (TETCO) Station Expansion (20-Inch TETCO Lateral);

• One 0.11-mile-long, 12-inch-diameter interconnect pipeline to CrossTex LIG Pipeline Company's (Crosstex) existing system (12-Inch CrossTex Lateral);

• One 0.04-mile-long, 12-inch diameter interconnect pipeline to Florida Gas Transmission Company, LLC (FGT) (12-Inch FGT Lateral);

• A 0.23-acre expansion of the meter station interconnect to Bridgeline Pipeline System (Bridgeline) at Station Number (SN) 381+00 (Milepost (MP) 7.21) (Bridgeline Station Expansion);

• A 0.68-acre expansion of the existing Southern Natural Gas Company (SONAT) Station at SN 684+50 (MP 12.95) (SONAT Station Expansion);

• A 0.52-acre expansion of the TETCO Station at SN 47+74 of the 20-Inch TETCO Lateral (TETCO Station Expansion);

• A 0.05-acre expansion of the TETCO-future Gulf South Pipeline Company, LP (Gulf South) Interconnect Station at SN 384+00 (MP 7.27) (TETCO-future Gulf South Interconnect Station Expansion);

• Expansion of two valve sites on the existing PetroLogistics mainline to accommodate the 30-Inch Expansion Header, at SN 228+40 (MP 4.33) and SN 292+42 (MP 5.54) (Expanded Mainline Valve Sites 1 and 2);

• Three side valves on the 30-Inch Expansion Header for future lateral interconnects to Gulf South's, Cypress Pipeline Company's (Cypress'), and Enterprise Products Partners' (Enterprise's) natural gas systems at SN 83+50 (MP 1.58) (Cypress Valve Set); and

• A 5.5-acre non-jurisdictional electrical substation (Sawmill Substation) along with a 200-foot-long 69-kilovolt (kv) electrical supply line to Entergy LLC's (Entergy's) powerline.

The FERC staff mailed copies of the EA to federal, state, and local government representatives and agencies; elected officials; environmental and public interest groups; Native American tribes; potentially affected landowners and other interested individuals and groups; newspapers and libraries in the project area; and parties to this proceeding. In addition, the EA is available for public viewing on the FERC's Web site (www.ferc.gov) using the eLibrary link. A limited number of copies of the EA are available for distribution and public inspection at: Federal Energy Regulatory Commission, Public Reference Room, 888 First Street NE., Room 2A, Washington, DC 20426. (202) 502-8371.

Any person wishing to comment on the EA may do so. Your comments should focus on the potential environmental effects, reasonable alternatives, and measures to avoid or lessen environmental impacts. The more specific your comments, the more useful they will be. To ensure that the Commission has the opportunity to consider your comments prior to making its decision on this project, it is important that we receive your comments in Washington, DC on or before April 16, 2012.

For your convenience, there are three methods you can use to file your comments with the Commission. In all instances please reference the project docket number (CP11-50-000) with your submission. The Commission encourages electronic filing of comments and has dedicated eFiling expert staff available to assist you at (202) 502-8258 or efiling@ferc.gov.

(1) You can file your comments electronically using the eComment feature on the Commission's Web site at (www.ferc.gov) under the link to Documents and Filings. This is an easy method for submitting brief, text-only comments on a project;

(2) You can also file your comments electronically using the eFiling feature on the Commission's Web site (www.ferc.gov) under the link to Documents and Filings. With eFiling, you can provide comments in a variety of formats by attaching them as a file with your submission. New eFiling users must first create an account by clicking on “eRegister.” You must select the type of filing you are making. If you are filing a comment on a particular project, please select “Comment on a Filing;” or

(3) You can file a paper copy of your comments by mailing them to the following address: Kimberly D. Bose, Secretary, Federal Energy Regulatory Commission, 888 First Street NE., Room 1A, Washington, DC 20426.

Any person seeking to become a party to the proceeding must file a motion to intervene pursuant to Rule 214 of the Commission's Rules of Practice and Procedures (18 CFR 385.214).² Only intervenors have the right to seek rehearing of the Commission's decision. The Commission grants affected landowners and others with environmental concerns intervenor status upon showing good cause by stating that they have a clear and direct interest in this proceeding which no other party can adequately represent. Simply filing environmental comments will not give you intervenor status, but you do not need intervenor status to have your comments considered.

² See the previous discussion on the methods for filing comments.

Additional information about the project is available from the Commission's Office of External Affairs, at (866) 208-FERC or on the FERC Web site (www.ferc.gov) using the eLibrary link. Click on the eLibrary link, click on “General Search” and enter the docket number excluding the last three digits in the Docket Number field (i.e., CP11-50). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/esubscribenow.htm.

Dated: March 16, 2012.
Kimberly D. Bose,
Secretary.

[FR Doc. 2012-7153 Filed 3-23-12; 8:45 am]

BILLING CODE 6717-01-P